DEPARTMENT OF ENERGY

Federal Energy Regulatory Commission

[Docket No. CP11-516-000]

Tennessee Gas Pipeline Company; Notice of Request Under Blanket Authorization

Take notice that on July 14, 2011, Tennessee Gas Pipeline Company (Tennessee), 1001 Louisiana Street, Houston, Texas 77002, filed in Docket No. CP11-516-000, an application pursuant to sections 157.205 and 157.216 of the Commission's Regulations under the Natural Gas Act (NGA) as amended, to abandon in place and by sale to Famcor Oil, Inc. (Famcor), a natural gas producer, a natural gas supply line located in San Jacinto and Liberty Counties, Texas, under Tennessee's blanket certificate issued in Docket No. CP82-413-000,¹ all as more fully set forth in the application which is on file with the Commission and open to the public for inspection.

¹ 20 FERC ¶ 62,409 (1982).

Tennessee proposes to abandon by sale to Famcor ² its supply lateral designated as Line No. 26A-100 and all equipment and appurtenances (the Cold Springs Lateral).³ The Cold Springs Lateral consists of 12.3 miles of 6-inch diameter pipeline and appurtenances that was placed in service on January 27, 1951. Tennessee states that it does not currently provide any firm transportation services via the Cold Springs Lateral, but it does provide interruptible transportation services to three shippers on the lateral. Tennessee also states that it has received signed consent letters from the three shippers for the abandonment. Tennessee further states that it would cost approximately $13,000,000 to replicate the facilities today.

² Neither Tennessee nor Famcor seeks a declaration from the Commission that the Cold Springs lateral facilities will perform a non-jurisdictional function (such as gathering) following abandonment. Famcor assumes any risks associated with any future allegation that these facilities might be jurisdictional to the Commission.

³ See Tennessee Gas Pipeline Co., 8 FPC 276 (1949).

Any questions concerning this prior notice request may be directed to Susan T. Halbach, Senior Counsel, Tennessee Gas Pipeline Company, 1001 Louisiana Street, Houston, Texas 77002, at (713) 420-5751 or (713) 420-1601 (facsimile) or Juan Eligio, Analyst, Certificates & Regulatory Compliance, at (713) 420-3294 or (713) 420-1605 (facsimile).

This filing is available for review at the Commission or may be viewed on the Commission's web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: July 19, 2011.
Kimberly D. Bose,
Secretary.

[FR Doc. 2011-18698 Filed 7-22-11; 8:45 am]

BILLING CODE 6717-01-P